DEPARTMENT OF TRANSPORTATION

Surface Transportation Board

[STB Finance Docket No. 34247]

AN Railway, L.L.C.—Lease and Operation Exemption—Apalachicola Northern Railroad Company

AN Railway, L.L.C. (ANLLC), a noncarrier, has filed a verified notice of exemption under 49 CFR 1150.31 to lease and operate approximately 96 miles of rail line presently owned by the Apalachicola Northern Railroad Company (ANRR) ¹ between milepost 0 at Port St. Joe, FL, and milepost 96 at Chattahoochee, FL. The line to be acquired in this transaction has 12 stations that are located in Florida at: Port St. Joe (milepost 0); Apalachicola (milepost 20); Borrow Pit (milepost 28); Beverly (milepost 29); Sumatra (milepost 40); Wilma (milepost 50); Vilas (milepost 57); Telogia (milepost 67); Hosford (milepost 70); Greensboro (milepost 84); Hardaway (milepost 88); and Chattachoochee (milepost 96). ANLLC will operate two round-trip road trains per week between Port St. Joe and Chattahoochee, with extra trains and switching service available as needed to meet shippers' requirements; will serve Gulf transloading facilities at Port St. Joe; and will interchange traffic with CSX Transportation, Inc., at Chattachochee, as ANRR does today. Also, to facilitate operations, ANLLC will purchase from ANRR 6 locomotives, 148 railroad cars, and various vehicles, articles of communication and rail maintenance equipment and supplies, and other transportation-related personalty. The items purchased comprise substantially all of ANRR's equipment and rolling stock.

¹ ANLLC has reached an operating agreement with ANRR on terms to govern the lease of the Port St. Joe-Chattahoochee line. After consummation of the exemption, ANLLC will be the operator of the line.

ANLLC certifies that its projected revenues as a result of this transaction will not exceed those that would qualify it as a Class III rail carrier.

The transaction was scheduled to be consummated on or after August 30, 2002, the effective date of the exemption (7 days after the exemption was filed).

This transaction is related to STB Finance Docket No. 34246, K. Earl Dudren, Rail Management Corporation, and Rail Partners, L.P.—Continuance in Control Exemption—AN Railway, L.L.C., wherein K. Earl Durden, Rail Management Corporation, and Rail Partners, L.P., have concurrently filed a verified notice to continue in control of ANLLC upon its becoming a Class III rail carrier.

If the verified notice contains false or misleading information, the exemption is void ab initio. Petitions to revoke the exemption under 49 U.S.C. 10502(d) may be filed any time. The filing of a petition to revoke will not automatically stay the transaction.

An original and 10 copies of all pleadings, referring to STB Finance Docket No. 34247, must be filed with the Surface Transportation Board, 1925 K Street, NW., Washington, DC 20423-0001. In addition, a copy of each pleading must be served on Kelvin J. Dowd, Slover & Loftus, 1224 Seventeenth Street, NW., Washington, DC 20036.

Board decisions and notices are available on our Web site at www.stb.dot.gov.

Decided: September 11, 2002.
By the Board, David M. Konschnik, Director, Office of Proceedings.
Vernon A. Williams,
Secretary.

[FR Doc. 02-23695 Filed 9-17-02; 8:45 am]

BILLING CODE 4915-00-P